DEPARTMENT OF HEALTH AND HUMAN SERVICES

Centers for Disease Control and Prevention

[30Day-16-16AHI]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Community-Based Organization Outcome Monitoring Projects for CBO HIV Prevention Services Clients—New—National Center for HIV/AIDS, Viral Hepatitis, STD, and TB Prevention (NCHHSTP), Centers for Disease Control and Prevention (CDC).

Background and Brief Description

The Community-based Organization (CBO) Outcome Monitoring Projects for CBO-HPS Clients (CBO-OMP) will collect information on HIV prevention services provided to HIV-positive clients and high-risk HIV-negative clients. CBOs are funded through CBO-HPS to provide HIV prevention activities.

CBOs play an essential role in reaching persons at high risk of transmitting and acquiring HIV infection. Through CBO-HPS, CDC funds 90 CBOs to provide comprehensive HIV prevention services to HIV-positive persons and high-risk HIV-negative persons. However, the CBO-HPS awardees are not required to monitor or report on critical outcomes such as whether HIV-positive persons who are linked to HIV medical care were retained in care or prescribed ART, and whether high-risk HIV-negative persons who were referred to PrEP initiated its use. Also, CBO-HPS CBOs are not required to collect and report data about clients' perceived barriers to accessing HIV prevention services.

The goal of these projects is to fund a subset of CBO-HPS awardees to collect and report data to CDC about the utilization and outcomes of the HIV prevention and support services. This will increase understanding of HIV prevention and support services received by CBO-HPS clients, the outcomes of these services, and successes and challenges related to service provision and utilization. Awardees will collect and report data that are aligned with the Updated NHAS indicators. These projects will help address the Updated NHAS's call for developing improved mechanisms for monitoring and reporting results of efforts to reduce new HIV infections and improve health outcomes to chart progress over time at both the local and national levels.

The purpose of CBO-OMP is to collect data to monitor critical HIV prevention service outcomes of CBO-HPS clients over time. These data will increase understanding of (a) HIV prevention and support services received by CBO-HPS clients, (b) the outcomes of these services, (c) and successes and challenges related to service provision and utilization. Ultimately, these data will improve performance of CBO-HPS CBOs and contribute to reducing HIV infections, increasing access to care, and improving health outcomes for clients.

There are no additional costs to respondents other than their time. The total estimated annual burden hours are 1,266.

Estimated Annualized Burden Hours
Type of respondent | Form name | Number of respondents | Number of responses per respondent | Average burden response (hours)
General public | Screener Participant Interview Category 1 | 175 | 1 | 3/60
Facility office staff | Medical records abstraction Category 1 | 150 | 3 | 3/60
CBO-HPS grantees | CBO-HPS Referrals Category 1 | 150 | 3 | 3/60
General public | Baseline Interview Category 1 | 150 | 1 | 40/60
General public | 3,6,9, and 15 Month Follow-up Interview Category 1 | 150 | 4 | 30/60
General public | Screener Focus Group Category 1 | 150 | 1 | 3/60
General public | Focus Group Questionnaire Category 1 | 90 | 1 | 2/60
General public | Focus Group Category 1 | 90 | 1 | 1.5
CBO-HPS grantees | Staff Interview Category 1 | 30 | 1 | 2.5
CBO-OMP CBOs | Data submission Category 1 and 2 | 18 | 12 | 10/60
General public | Screener Participant Interview Category 2 | 225 | 1 | 3/60
Facility office staff | Medical records abstraction Category 2 | 210 | 2 | 3/60
CBO-HPS grantees | CBO-HPS Referrals Category 2 | 210 | 2 | 3/60
General public | Baseline Interview Category 2 | 210 | 1 | 40/60
General public | 3,6, and 9 Month Follow-up Interview Category 2 | 210 | 3 | 30/60
General public | Screener Focus group Category 2 | 30 | 1 | 3/60
General public | Focus Group Questionnaire Category 2 | 18 | 1 | 2/60
General public | Focus Group Category 2 | 18 | 1 | 1.5
CBO-HPS grantees | Staff Interview Category 2 | 6 | 1 | 2.5

Leroy A. Richardson,
Chief, Information Collection Review Office, Office of Scientific Integrity, Office of the Associate Director for Science, Office of the Director, Centers for Disease Control and Prevention.

[FR Doc. 2016-20831 Filed 8-29-16; 8:45 am]

BILLING CODE 4163-18-P